DEPARTMENT OF AGRICULTURE

Animal and Plant Health Inspection Service

[Docket No. APHIS-2021-0028]

General Conference Committee of the National Poultry Improvement Plan; Virtual Public Meeting

AGENCY: Animal and Plant Health Inspection Service, USDA.

ACTION: Notice of virtual public meeting.

SUMMARY: We are giving notice that the General Conference Committee of the National Poultry Improvement Plan will be holding a virtual public meeting.

DATES: The General Conference Committee virtual public meeting will be held on Wednesday, September 22, 2021, at 12:00 p.m. Eastern Daylight Time.

FOR FURTHER INFORMATION CONTACT: Dr. Elena Behnke, Senior Coordinator, National Poultry Improvement Plan, VS, APHIS, USDA, 1506 Klondike Road, Suite 101, Conyers, GA 30094; (770) 922-3496; email: Elena.Behnke@usda.gov.

SUPPLEMENTARY INFORMATION: The General Conference Committee (the Committee) of the National Poultry Improvement Plan (NPIP) is the Secretary's Advisory Committee on poultry health. The Committee serves as a forum for the study of problems relating to poultry health and, as necessary, makes specific recommendations to the Secretary concerning ways the U.S. Department of Agriculture may assist the industry in addressing these problems.

The Committee has scheduled a virtual public meeting to be held on September 22, 2021, at 12:00 p.m. Eastern Daylight Time using Zoom, a web conferencing service. The meeting will start with a brief comment by the NPIP Senior Coordinator and GCC Chairperson, after which, new diagnostic tests will be presented, reviewed, and voted on by the Committee. The Committee will then attend to old and new business. Anyone may observe and/or participate as indicated below, and we ask that, if you are new to Zoom, to please visit https://support.zoom.us prior to the meeting to allow time to help you get started and to familiarize yourself with the web conferencing service.

To Join as a Participant

Time permitting, participants may provide oral comments for no more than five (5) minutes per participant. Due to time constraints, it may not be possible to accommodate all who wish to speak. Participants in the open session can speak and may be asked questions by the Committee. If you wish to participate with an unmuted line, you must request to be scheduled as a full participant no later than September 15, 2021, via email to NPIP Program Analyst, Penny Kesler, Penny.E.Kesler@usda.gov with a copy to Elena.Behnke@usda.gov. Please submit your name and organizational affiliation in this request. After you pre-register, you will receive a unique link and instructions via email on how to fully participate.

To Join as an Observer

Observers can watch the open session, but they cannot speak. It is not necessary to pre-register to observe. To join as an observer, a link and call-in lines will be posted at www.poultryimprovement.org with further instructions on September 1, 2021.

Reasonable Accommodations

If needed, please request reasonable accommodations no later than August 20, 2021, by email to Penny.E.Kesler@usda.gov with a copy to Elena.Behnke@usda.gov. Requests made after that date may be considered, but it may not be possible to fulfill them.

This notice of meeting is given pursuant to section 10 of the Federal Advisory Committee Act (5 U.S.C. App. 2).

Done in Washington, DC, this 5th day of August 2021.
Cikena Reid,
USDA Committee Management Officer.

[FR Doc. 2021-17068 Filed 8-10-21; 8:45 am]

BILLING CODE 3410-34-P